DEPARTMENT OF DEFENSE

GENERAL SERVICES ADMINISTRATION

NATIONAL AERONAUTICS AND SPACE ADMINISTRATION

[OMB Control No. 9000-0144]

Federal Acquisition Regulation; Submission for OMB Review; Payment by Electronic Fund Transfer

AGENCIES: Department of Defense (DOD), General Services Administration (GSA), and National Aeronautics and Space Administration (NASA).

ACTION: Notice of request for public comments regarding an extension to an existing OMB clearance (9000-0144).

SUMMARY: Under the provisions of the Paperwork Reduction Act of 1995 (44 U.S.C. chapter 35), the Federal Acquisition Regulation (FAR) Secretariat has submitted to the Office of Management and Budget (OMB) a request to review and approve an extension of a currently approved information collection requirement concerning payment by electronic fund transfer. A request for public comments was published in the Federal Register at 67 FR 20744 on April 26, 2002. No comments were received.

DATES: Submit comments on or before August 12, 2002.

ADDRESSES: Submit comments regarding this burden estimate or any other aspect of this collection of information, including suggestions for reducing this burden should be submitted to the General Services Administration, FAR Secretariat, 1800 F Street, NW., Room 4035, Washington, DC 20405.

FOR FURTHER INFORMATION CONTACT: Jeremy F. Olson, Acquisition Policy Division, GSA (202) 501-3221.

SUPPLEMENTARY INFORMATION:

A. Purpose

The FAR requires certain information to be provided by contractors which would enable the Government to make payments under the contract by electronic fund transfer (EFT). The information necessary to make the EFT transaction is specified in clause 52.232-33, Payment by Electronic Fund Transfer-Central Contractor Registration, which the contractor is required to provide prior to award, and clause 52.232-34, Payment by Electronic Fund Transfer-Other Than Central Contractor Registration, which requires EFT information to be provided as specified by the agency to enable payment by EFT.

B. Annual Reporting Burden

Respondents: 14,000.

Responses Per Respondent: 10.

Annual Responses: 140,000.

Hours Per Response: .5.

Total Burden Hours: 70,000.

Obtaining Copies of Proposals: Requesters may obtain a copy of the information colllection documents from the General Services Administration, FAR Secretariat (MVP), Room 4035, 1800 F Street, NW., Washington, DC 20405, telephone (202) 501-4755. Please cite OMB Control No. 9000-0144, Payment by Electronic Fund Transfer, in all correspondence.

Dated: July 8, 2002.
Linda K. Nelson,
Acting Director, Acquisition Policy Division.

[FR Doc. 02-17597 Filed 7-11-02; 8:45 am]

BILLING CODE 6820-EP-P